DEPARTMENT OF EDUCATION

34 CFR Parts 606, 607, 611, 637, 648, 656, 657, 658, 660, 661, 662, 663, 664, and 669

Higher Education Programs

AGENCY: Office of Postsecondary Education, Department of Education.

ACTION: Final regulations.

SUMMARY: These final regulations remove all references to points in the selection criteria the Department of Education (Department) uses to evaluate applications submitted under the higher education discretionary grant programs. We are taking this action because the current point assignments are outdated and do not permit sufficient flexibility to establish important program objectives. Taking this action allows us that flexibility and ensures that grant awards are made to high quality applicants.

The final regulations also remove the requirement that in competitions for grants under the Partnership and Teacher-Recruitment components of the Teacher Quality Enhancement Grants Program, the Secretary hold a two-stage competition in which applicants must submit a pre-application and a full application. The current structure did not prove effective in producing high quality applications for this program. Removing the requirement for a pre-application reduces burden on applicants and the Department and allows both to target their resources on the full application stage.

There are some amendments in these final regulations that are purely technical corrections to the regulations.

DATES: These regulations are effective April 20, 2005.

FOR FURTHER INFORMATION CONTACT: Lorraine Kennedy, U.S. Department of Education, 1990 K Street, NW., room 8018, Washington, DC 20006-8544. Telephone: (202) 502-7762. Pamela Maimer, U.S. Department of Education, 1990 K Street, NW., room 8014, Washington, DC 20006-8544. Telephone: (202) 502-7704.

If you use a telecommunications device for the deaf (TDD), you may call the Federal Relay Service (FRS) at 1-800-877-8339.

Individuals with disabilities may obtain this document in an alternative format (e.g., Braille, large print, audiotape, or computer diskette) on request to either contact person listed under FOR FURTHER INFORMATION CONTACT.

SUPPLEMENTARY INFORMATION: On December 22, 2004, the Secretary published a notice of proposed rulemaking (NPRM) for 34 CFR parts 606, 607, 611, 637, 648, 656, 657, 658, 660, 661, 662, 663, 664, and 669 in the Federal Register (69 FR 76636). In the preamble of the NPRM, the Secretary discussed on pages 76636 and 76637 the major changes proposed to the current regulations. These are as follows:

• The Secretary proposed removing the mandatory point values from the selection criteria in the regulations associated with the application process for discretionary grant programs. These amendments provide the Secretary with the flexibility to select specific point values from year to year to address current priorities for the programs.

• The Secretary also proposed amending 34 CFR part 611, which governs the Teacher Quality Enhancement Grants (TQE) program. This amendment makes discretionary the existing requirement that in competitions for grants under the program's Partnership and Teacher-Recruitment components, the Secretary conduct a two-stage process for selecting applicants involving the submission and review of pre-applications and full applications.

There were no differences between the NPRM and these final regulations.

Analysis of Comments

In response to the Secretary's invitation in the NPRM, the Department did not receive any comments on the changes to the TQE program. Several parties submitted comments on the proposed regulations regarding removal of mandatory point values. An analysis of the comments follows.

Generally, we do not address technical and other minor changes—and suggested changes the law does not authorize the Secretary to make.

Analysis of Comments and Changes

Comments: Several commenters believed that the elimination of points will result in some institutions being denied the opportunity to compete for grants because they will not have enough time to prepare because of the change.

Discussion: The Secretary does not agree that eliminating specific point values from the regulations will reduce the opportunity for potential grantees to compete for grants. The regulations continue to specify the criteria used in making the grants in each program. Moreover, the points to be awarded for each criteria will be specified in a Federal Register notice or in the application package, which will be available in enough time for potential applicants to prepare their applications.

Change: None.

Comment: Several commenters wrote that eliminating points from the criteria will result in a reduced focus on institutions that serve disadvantaged students or programs that serve a particular group.

Discussion: The Secretary understands the concerns of the commenters. We do not believe that the proposed change will lead to reduced focus on institutions that serve disadvantaged students or particular groups of students. Removing point values from the regulations does not change the selection criteria or otherwise change the focus of the programs.

Change: None.

Comment: Several commenters stated that the elimination of points would result in a preference for four-year institutions over two-year institutions.

Discussion: We have no reason to believe that the removal of points from the regulations will result in a preference for four-year institutions over two-year institutions in grant awards. The selection criteria will remain the same, so the removal of points will not effect the selection of applicants.

Change: None.

Executive Order 12866

1. Potential Costs and Benefits

We have reviewed these final regulations in accordance with Executive Order 12866. Under the terms of the order we have assessed the potential costs and benefits of this regulatory action.

The potential costs associated with the final regulations are those resulting from statutory requirements and those we have determined to be necessary for administering these programs effectively and efficiently.

In assessing the potential costs and benefits—both quantitative and qualitative—of these final regulations, we have determined that the benefits regulations justify the costs.

We have also determined that this regulatory action would not unduly interfere with State, local, and tribal governments in the exercise of their governmental functions.

2. Summary of Potential Costs and Benefits

We discussed the potential costs and benefits of these final regulations in the preamble to the NPRM in the section titled Supplementary Information.

Regulatory Flexibility Act Certification

The Secretary certifies that these final regulations will not have a significant economic impact on a substantial number of small entities. Small entities affected by these regulations are small institutions of higher education. The changes will not have a significant economic impact on the institutions affected.

Paperwork Reduction Act of 1995

The Paperwork Reduction Act of 1995 does not require you to respond to a collection of information unless it displays a valid OMB control number. We display the valid OMB control numbers assigned to collections of information in these final regulations at the end of the affected sections of the regulations.

Assessment of Educational Impact

In the NPRM we requested comments on whether the proposed regulations would require transmission of information that any other agency or authority of the United States gathers or makes available.

Based on the response to the NPRM and on our review, we have determined that these final regulations do not require transmission of information that any other agency or authority of the United States gathers or makes available.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

List of Subjects

34 CFR Parts 606 and 607

Colleges and universities, Grant programs—education, Reporting and recordkeeping requirements.

34 CFR Part 611

Colleges and universities, Elementary and secondary education, Grant programs—education.

34 CFR Part 637

Colleges and universities, Educational study programs, Equal educational opportunity, Grant programs—education, Reporting and recordkeeping requirements, Science and technology, Women.

34 CFR Part 648

Colleges and universities, Grant programs—education, Reporting and recordkeeping requirements, Scholarships and fellowships.

34 CFR Part 656

Colleges and universities, Cultural exchange programs, Educational study programs, Grant programs—education, Reporting and recordkeeping requirements.

34 CFR Part 657

Colleges and universities, Cultural exchange programs, Educational study programs, Grant programs—education, Reporting and recordkeeping requirements, Scholarships and fellowships.

34 CFR Part 658

Colleges and universities, Cultural exchange programs, Educational study programs, Grant programs—education.

34 CFR Part 660

Colleges and universities, Cultural exchange programs, Educational Research, Educational study programs, Grant programs—education.

34 CFR Part 661

Business and industry, Colleges and universities, Educational study programs, Grant programs—education, Student aid.

34 CFR Part 662

Colleges and universities, Educational Research, Educational study programs, Grant programs—education, Scholarships and fellowships.

34 CFR Part 663

Colleges and universities, Educational Research, Educational study programs, Grant programs—education, Scholarships and fellowships, Teachers.

34 CFR Part 664

Colleges and universities, Educational Research, Educational study programs, Grant programs—education, Teachers.

34 CFR Part 669

Colleges and universities, Educational Research, Educational study programs, Grant programs—education, Reporting and recordkeeping requirements, Teachers.

Dated: March 16, 2005.
Sally L. Stroup,
Assistant Secretary for Postsecondary Education.

For the reasons discussed in the preamble, the Secretary amends parts 606, 607, 611, 637, 648, 656, 657, 658, 660, 661, 662, 663, 664, and 669 of title 34 of the Code of Federal Regulations as follows:

PART 606—DEVELOPING HISPANIC-SERVING INSTITUTIONS PROGRAM

1. The authority citation for part 606 continues to read as follows:

Authority: 20 U.S.C. 1101 et seq., unless otherwise noted.

2. Section 606.20 is amended by—

A. Revising paragraph (b);

B. In paragraph (c)(1), removing the words “scores at least 50 points” and adding, in their place, the words “meets the requirements”; and

C. Removing paragraph (c)(2)(i) and redesignating paragraphs (c)(2)(ii) and (c)(2)(iii) as paragraphs (c)(2)(i) and (c)(2)(ii), respectively.

The revision reads as follows:

§ 606.20 How does the Secretary choose applications for funding?

* * * * *

(b) The Secretary informs applicants of the maximum possible score for each criterion in the application package or in a notice published in the Federal Register.

* * * * *

3. Section 606.21 is amended by—

A. Removing all of the parentheticals that end in “points)”; and

B. Revising the introductory text to read as follows:

§ 606.21 What are the selection criteria for planning grants?

The Secretary evaluates an application for a planning grant on the basis of the criteria in this section.

* * * * *

4. Section 606.22 is amended by—

A. Revising the introductory text;

B. Removing all of the parentheticals that end in “points)”;

C. In paragraphs (a)(1) and (a)(2), removing the punctuation “.”; and

D. In paragraph (a)(3), adding the word “and” after the punctuation “;”.

The revision reads as follows:

§ 606.22 What are the selection criteria for development grants?

The Secretary evaluates an application for a development grant on the basis of the criteria in this section.

* * * * *

5. Section 606.23 is amended by—

A. Removing all of the parentheticals that end in “point)”; and

B. Revising the introductory text of paragraphs (a) and (b) to read as follows:

§ 606.23 What special funding consideration does the Secretary provide?

(a) If funds are available to fund only one additional planning grant and each of the next fundable applications has received the same number of points under § 606.20 or 606.21, the Secretary awards additional points, as provided in the application package or in a notice published in the Federal Register, to any of those applicants that—

* * * * *

(b) If funds are available to fund only one additional development grant and each of the next fundable applications has received the same number of points under § 606.20 or 606.22, the Secretary awards additional points, as provided in the application package or in a notice published in the Federal Register, to any of those applicants that—

* * * * *

PART 607—STRENGTHENING INSTITUTIONS PROGRAM

6. The authority citation for part 607 continues to read as follows:

Authority: 20 U.S.C. 1507-1509c, 1066-1069f, unless otherwise noted.

7. Section 607.20 is amended by—

A. Removing paragraph (c) and redesignating paragraphs (b)(1) and (2) as paragraphs (c)(1) and (2), respectively;

B. In redesignated paragraph (c)(2), removing the reference to “(b)(1)” and adding, in its place, the reference “(c)(1)”;

C. Adding a new paragraph (b); and

D. Revising paragraph (d).

The addition and revision read as follows:

§ 607.20 How does the Secretary choose applications for funding?

* * * * *

(b) The Secretary informs applicants of the maximum possible score for each criterion in the application package or in a notice published in the Federal Register.

* * * * *

(d) The Secretary considers funding an application for a development grant that—

(1) Is submitted with a comprehensive development plan that satisfies all the elements required of such a plan under § 607.8; and

(2) In the case of an application for a cooperative arrangement grant, demonstrates that the grant will enable each eligible participant to meet the goals and objectives of its comprehensive development plan better and at a lower cost than if each eligible participant were funded individually.

* * * * *

8. Section 607.21 is amended by—

A. Removing all of the parentheticals that end in “points)”; and

B. Revising the introductory text to read as follows:

§ 607.21 What are the selection criteria for planning grants?

The Secretary evaluates an application for a planning grant on the basis of the criteria in this section.

* * * * *

9. Section 607.22 is amended by—

A. Revising the introductory text;

B. Removing all of the parentheticals that end in “points)”;

C. In paragraphs (a)(1) and (a)(2), removing the punctuation “.”; and

D. In paragraph (a)(3), adding the word “and” after the punctuation “;”.

The revision reads as follows:

§ 607.22 What are the selection criteria for development grants?

The Secretary evaluates an application for a development grant on the basis of the criteria in this section.

* * * * *

10. Section 607.23 is amended by—

A. Removing all of the parentheticals that end in “point)”; and

B. Revising the introductory text of paragraphs (a) and (b) to read as follows:

§ 607.23 What special funding consideration does the Secretary provide?

(a) If funds are available to fund only one additional planning grant and each of the next fundable applications has received the same number of points under § 607.20 or 607.21, the Secretary awards additional points, as provided in the application package or in a notice published in the Federal Register, to any of those applicants that—

* * * * *

(b) If funds are available to fund only one additional development grant and each of the next fundable applications has received the same number of points under § 607.20 or 607.22, the Secretary awards additional points, as provided in the application package or in a notice published in the Federal Register, to any of those applicants that—

* * * * *

PART 611—TEACHER QUALITY ENHANCEMENT GRANTS PROGRAM

11. The authority citation for part 611 continues to read as follows:

Authority: 20 U.S.C. 1021 et seq. and 1024(e), unless otherwise noted.

§ 611.2 [Amended]

12. Section 611.2 is amended by, in paragraph (a), removing the words “paragraphs (a)(1), (a)(2)(iii), or (a)(3)(iii) of § 611.3” and adding, in their place, the words “paragraphs (a)(1), (a)(2)(i)(B), (a)(2)(ii), (a)(3)(i)(B), or (a)(3)(ii) of § 611.3”.

13. Section 611.3 is amended by—

A. Revising paragraphs (a)(2) and (a)(3); and

B. In paragraph (b), removing the words “paragraphs (b)(2)(ii) and (b)(3)(ii)” and adding, in their place, the words “paragraphs (a)(2)(i)(A) and (a)(3)(i)(A)”.

The revisions read as follows:

§ 611.3 What procedures does the Secretary use to award a grant?

* * * * *

(a) * * *

(2) For the Partnership Grants Program, the Secretary may use a two-stage application process to determine which applications to fund.

(i) If the Secretary uses a two-stage application process, the Secretary uses—

(A) The selection criteria in §§ 611.21 through 611.22 to evaluate pre-applications submitted for new grants, and to determine those applicants to invite to submit full program applications; and

(B) For those applicants invited to submit full applications, the selection criteria and competitive preference in §§ 611.23 through 611.25 to evaluate the full program applications.

(ii) If the Secretary does not use a two-stage application process, the Secretary uses the selection criteria and competitive preference in §§ 611.23 through 611.25 to evaluate applications.

(3) For the Teacher Recruitment Grants Program, the Secretary may use a two-stage application process to determine which applications to fund.

(i) If the Secretary uses a two-stage application process, the Secretary uses—

(A) The selection criteria in § 611.31 to evaluate pre-applications submitted for new grants, and to determine those applicants to invite to submit full program applications; and

(B) For those applicants invited to submit full applications, the selection criteria in § 611.32 to evaluate the full program applications.

(ii) If the Secretary does not use a two-stage application process, the Secretary uses the selection criteria in § 611.32 to evaluate applications.

* * * * *

PART 637—MINORITY SCIENCE AND ENGINEERING IMPROVEMENT PROGRAM

14. The authority citation for part 637 continues to read as follows:

Authority: 20 U.S.C. 1067-1067c, 1067g-1067k, 1068, 1068b, unless otherwise noted.

15. Section 637.31 is amended by—

A. Revising paragraph (b); and

B. Removing paragraph (c) and redesignating paragraphs (d)(1), (2), and (3) as paragraphs (c)(1), (2), and (3), respectively.

The revision reads as follows:

§ 637.31 How does the Secretary evaluate an application?

* * * * *

(b) The Secretary informs applicants of the maximum possible score for each criterion in the application package or in a notice published in the Federal Register.

* * * * *

16. Section 637.32 is amended by—

A. Revising the introductory text;

B. Removing all of the parentheticals that end in “points)”;

C. In paragraph (a)(2)(v), removing the parenthetical “(See EDGAR 34 CFR 75.581)” and adding, in its place, the parenthetical “(See 34 CFR 75.580)”.

D. In paragraph (b)(2)(iv), removing the word “groups” the second time it appears and adding, in its place, the word “group”;

E. In paragraph (d)(1), removing the parenthetical “(See EDGAR 34 CFR 75.590—Evaluation by the grantee; where applicable)” and adding, in its place, the parenthetical “(See 34 CFR 75.590)”;

F. Removing the authority citation that appears immediately before paragraph (f); and

G. Revising paragraph (f)(2)(iii).

The revisions read as follows:

§ 637.32 What selection criteria does the Secretary use?

The Secretary evaluates applications on the basis of the criteria in this section.

* * * * *

(f) * * *

(2) * * *

(iii) Involvement of appropriate individuals, especially science faculty, in identifying the institutional needs.

* * * * *

PART 648—GRADUATE ASSISTANCE IN AREAS OF NATIONAL NEED

17. The authority citation for part 648 continues to read as follows:

Authority: 20 U.S.C. 1135-1135ee, unless otherwise noted.

18. Section 648.30 is amended by—

A. Revising paragraph (b); and

B. Removing paragraph (c).

The revision reads as follows:

§ 648.30 How does the Secretary evaluate an application?

* * * * *

(b) The Secretary informs applicants of the maximum possible score for each criterion in the application package or in a notice published in the Federal Register.

* * * * *

19. Section 648.31 is amended by—

A. Removing all of the parentheticals that end in “points)”; and

B. Revising the introductory text to read as follows:

§ 648.31 What selection criteria does the Secretary use?

The Secretary evaluates an application on the basis of the criteria in this section.

* * * * *

PART 656—NATIONAL RESOURCE CENTERS PROGRAM FOR FOREIGN LANGUAGE AND AREA STUDIES OR FOREIGN LANGUAGE AND INTERNATIONAL STUDIES

20. The authority citation for part 656 continues to read as follows:

Authority: 20 U.S.C. 1122, unless otherwise noted.

21. Section 656.20 is amended by revising paragraph (b) to read as follows:

§ 656.20 How does the Secretary evaluate an application?

* * * * *

(b) The Secretary informs applicants of the maximum possible score for each criterion in the application package or in a notice published in the Federal Register.

* * * * *

22. Section 656.21 is amended by—

A. Removing all of the parentheticals that end in “points)”; and

B. Revising the introductory text to read as follows:

§ 656.21 What selection criteria does the Secretary use to evaluate an application for a comprehensive Center?

The Secretary evaluates an application for a comprehensive Center on the basis of the criteria in this section.

* * * * *

23. Section 656.22 is amended by—

A. Removing all of the parentheticals that end in “points)”; and

B. Revising the introductory text to read as follows:

§ 656.22 What selection criteria does the Secretary use to evaluate an application for an undergraduate Center?

The Secretary evaluates an application for an undergraduate Center on the basis of the criteria in this section.

* * * * *

PART 657—FOREIGN LANGUAGE AND AREA STUDIES FELLOWSHIPS PROGRAM

24. The authority citation for part 657 continues to read as follows:

Authority: 20 U.S.C. 1122, unless otherwise noted.

25. Section 657.20 is amended by—

A. In paragraph (a), adding the word “institutional” before the word “application”; and

B. Revising paragraph (b) to read as follows:

§ 657.20 How does the Secretary evaluate an institutional application for an allocation of fellowships?

* * * * *

(b) The Secretary informs applicants of the maximum possible score for each criterion in the application package or in a notice published in the Federal Register.

* * * * *

26. Section 657.21 is amended by—

A. Removing all of the parentheticals that end in “points)”; and

B. Adding introductory text to read as follows:

§ 657.21 What criteria does the Secretary use in selecting institutions for an allocation of fellowships?

The Secretary evaluates an institutional application for an allocation of fellowships on the basis of the criteria in this section.

* * * * *

PART 658—UNDERGRADUATE INTERNATIONAL STUDIES AND FOREIGN LANGUAGE PROGRAM

27. The authority citation for part 658 continues to read as follows:

Authority: 20 U.S.C. 1124, unless otherwise noted.

28. Section 658.30 is revised to read as follows:

§ 658.30 How does the Secretary evaluate an application?

(a) The Secretary evaluates an application from an institution of higher education or a combination of such institutions on the basis of the criteria in §§ 658.31 and 658.32. The Secretary informs applicants of the maximum possible score for each criterion in the application package or in a notice published in the Federal Register.

(b) The Secretary evaluates an application from an agency or organization or professional or scholarly association on the basis of the criteria in §§ 658.31 and 658.33. The Secretary informs applicants of the maximum possible score for each criterion in the application package or in a notice published in the Federal Register.

(Authority: 20 U.S.C. 1124)

29. Section 658.31 is amended by—

A. Removing the parentheticals “(10)” and “(5)” each time they appear; and

B. Revising the introductory text to read as follows:

§ 658.31 What selection criteria does the Secretary use?

The Secretary evaluates an application for a project under this program on the basis of the criteria in this section.

* * * * *

30. Section 658.32 is amended by—

A. Removing the parentheticals “(15)” and “(10)” each time they appear; and

B. Revising the introductory text to read as follows:

§ 658.32 What additional criteria does the Secretary apply to institutional applications?

In addition to the criteria referred to in § 658.31, the Secretary evaluates an application submitted by an institution of higher education or a combination of such institutions on the basis of the criteria in this section.

* * * * *

31. Section 658.33 is amended by—

A. In paragraph (a), removing the parenthetical “(30)”; and

B. Revising the introductory text to read as follows:

§ 658.33 What additional criterion does the Secretary apply to applications from organizations and associations?

In addition to the criteria referred to in § 658.31, the Secretary evaluates an application submitted by an organization or association on the basis of the criterion in this section.

* * * * *

PART 660—THE INTERNATIONAL RESEARCH AND STUDIES PROGRAM

32. The authority citation for part 660 continues to read as follows:

Authority: 20 U.S.C. 1125, unless otherwise noted.

33. Section 660.30 is revised to read as follows:

§ 660.30 How does the Secretary evaluate an application?

(a) The Secretary evaluates an application for a research project, a study, or a survey on the basis of the criteria in §§ 660.31 and 660.32. The Secretary informs applicants of the maximum possible score for each criterion in the application package or in a notice published in the Federal Register.

(b) The Secretary evaluates an application for the development of specialized instructional materials on the basis of the criteria in §§ 660.31 and 660.33. The Secretary informs applicants of the maximum possible score for each criterion in the application package or in a notice published in the Federal Register.

(Authority: 20 U.S.C. 1125)

34. Section 660.31 is amended by—

A. Removing all of the parentheticals that end in “points)”; and

B. Revising the introductory text to read as follows:

§ 660.31 What selection criteria does the Secretary use for all applications for a grant?

The Secretary evaluates an application for a project under this program on the basis of the criteria in this section. The Secretary informs applicants of the maximum possible score for each criterion in the application package or in a notice published in the Federal Register.

* * * * *

35. Section 660.32 is amended by—

A. Removing all of the parentheticals that end in “points)”; and

B. Revising the introductory text to read as follows:

§ 660.32 What additional selection criteria does the Secretary use for an application for a research project, a survey, or a study?

In addition to the criteria referred to in § 660.31, the Secretary evaluates an application for a research project, study, or survey on the basis of the criteria in this section.

* * * * *

36. Section 660.33 is amended by—

A. Removing all of the parentheticals that end in “points)”; and

B. Revising the introductory text to read as follows:

§ 660.33 What additional selection criteria does the Secretary use for an application to develop specialized instructional materials?

In addition to the criteria referred to in § 660.31, the Secretary evaluates an application to develop specialized instructional materials on the basis of the criteria in this section.

* * * * *

PART 661—BUSINESS AND INTERNATIONAL EDUCATION PROGRAM

37. The authority citation for part 661 continues to read as follows:

Authority: 20 U.S.C. 1130-1130b, unless otherwise noted.

38. Section 661.30 is revised to read as follows:

§ 661.30 How does the Secretary evaluate an application?

The Secretary evaluates an application for a grant under this program on the basis of the criteria in § 661.31. The Secretary informs applicants of the maximum possible score for each criterion in the application package or in a notice published in the Federal Register.

(Authority: 20 U.S.C. 1130a)

39. Section 661.31 is amended by—

A. Removing all of the parentheticals that end in “points)”;

B. In paragraph (e), adding the punctuation “.” after the word “resources”; and

C. Revising the introductory text to read as follows:

§ 661.31 What selection criteria does the Secretary use?

The Secretary evaluates an application for a grant under this program on the basis of the criteria in this section.

* * * * *

PART 662—FULBRIGHT-HAYS DOCTORAL DISSERTATION RESEARCH ABROAD FELLOWSHIP PROGRAM

40. The authority citation for part 662 continues to read as follows:

Authority: Section 102(b)(6) of the Mutual Educational and Cultural Exchange Act of 1961 (Fulbright-Hays Act), 22 U.S.C. 2452(b)(6), unless otherwise noted.

41. Section 662.21 is amended by—

A. Removing all of the parentheticals that end in “points)” and removing the parentheticals “(10)”, “(15)”, and “(5)” wherever they appear;

B. In paragraph (c)(2), removing the word “a”; and

C. Revising paragraph (a) to read as follows:

§ 662.21 What criteria does the Secretary use to evaluate an application for a fellowship?

(a) General. The Secretary evaluates an application for a fellowship on the basis of the criteria in this section. The Secretary informs applicants of the maximum possible score for each criterion in the application package or in a notice published in the Federal Register.

* * * * *

PART 663—FULBRIGHT-HAYS FACULTY RESEARCH ABROAD FELLOWSHIP PROGRAM

42. The authority citation for part 663 continues to read as follows:

Authority: Sec. 102(b)(6) of the Mutual Educational and Cultural Exchange Act of 1961 (Fulbright-Hays Act), 22 U.S.C. 2452(b)(6), unless otherwise noted.

43. Section 663.21 is amended by—

A. Removing all of the parentheticals that end in “points)” and removing the parentheticals “(10)”, “(15)”, and “(5)” wherever they appear; and

B. Revising paragraph (a) to read as follows:

§ 663.21 What criteria does the Secretary use to evaluate an application for a fellowship?

(a) General. The Secretary evaluates an application for a fellowship on the basis of the criteria in this section. The Secretary informs applicants of the maximum possible score for each criterion in the application package or in a notice published in the Federal Register.

* * * * *

PART 664—FULBRIGHT-HAYS GROUP PROJECTS ABROAD FELLOWSHIP PROGRAM

44. The authority citation for part 664 continues to read as follows:

Authority: 22 U.S.C. 2452(b)(6), unless otherwise noted.

45. Section 664.30 is amended by—

A. Revising paragraph (a);

B. Removing paragraph (b); and

C. Redesignating paragraphs (c) and (d) as paragraphs (b) and (c), respectively.

The revision reads as follows:

§ 664.30 How does the Secretary evaluate an application?

(a) The Secretary evaluates an application for a Group Project Abroad on the basis of the criteria in § 664.31. The Secretary informs applicants of the maximum possible score for each criterion in the application package or in a notice published in the Federal Register.

* * * * *

46. Section 664.31 is amended by—

A. Removing all of the parentheticals that end in “points).” and removing the parenthetical that ends in “points)”; and

B. Revising the introductory text to read as follows:

§ 664.31 What selection criteria does the Secretary use?

The Secretary uses the criteria in this section to evaluate applications for the purpose of recommending to the J. William Fulbright Foreign Scholarship Board Group Projects Abroad for funding under this part.

* * * * *

PART 669—LANGUAGE RESOURCE CENTERS PROGRAM

47. The authority citation for part 669 continues to read as follows:

Authority: 20 U.S.C. 1123, unless otherwise noted.

48. Section 669.20 is revised to read as follows:

§ 669.20 How does the Secretary evaluate an application?

The Secretary evaluates an application for an award on the basis of the criteria contained in §§ 669.21 and 669.22. The Secretary informs applicants of the maximum possible score for each criterion in the application package or in a notice published in the Federal Register.

(Authority: 20 U.S.C. 1123)

49. Section 669.21 is amended by—

A. Removing all of the parentheticals that end in “points)”;

B. In paragraph (c), removing the symbol “§”; and

C. Revising the introductory text to read as follows:

§ 669.21 What selection criteria does the Secretary use?

The Secretary evaluates an application on the basis of the criteria in this section.

* * * * *

[FR Doc. 05-5547 Filed 3-18-05; 8:45 am]

BILLING CODE 4000-01-P